DEPARTMENT OF AGRICULTURE

Forest Service

Southwestern Region, Arizona, New Mexico, West Texas and Oklahoma: Proposed Invasive Plant Control Project, Carson National Forest, Portions of Rio Arriba, Mora, Taos, and Colfax Counties; and Santa Fe National Forest, Portions of Rio Arriba, Los Alamos, Sandoval, San Miguel, and Mora Counties, New Mexico

AGENCY: Forest Service, USDA.

ACTION: Notice; correction.

SUMMARY: On December 15, 2000, the USDA Forest Service published a notice of intent (65 FR 78464-78465) to prepare an environmental impact statement (EIS) for a proposed invasive plant control project on the Carson and Santa Fe national forests. A draft EIS was completed and the Environmental Protection Agency (EPA) published a notice of availability (NOA) in the Federal Register on July 16, 2004 (69 FR 42722). A NOA for the final EIS was published in the Federal Register on November 18, 2005 (70 FR 69967).

Due to significant new information relevant to environmental concerns and bearing on the proposed action and its impacts, the Carson and Santa Fe national forests are jointly preparing a supplemental environmental impact statement (SEIS) for the invasive plant control project on National Forest System lands within the boundaries of the two national forests. The proposed action would control invasive plant populations on both national forests by using one or a combination of integrated pest management methods, including mechanical, chemical, biological, and cultural treatments.

DATES: Revised Dates: The anticipated date for completion and distribution of the draft SEIS is the end of December 2009. A 45-day comment period will follow issuance of the draft SEIS. The final SEIS is estimated to be released in April 2010.

FOR FURTHER INFORMATION CONTACT: Lucy Maldonado, 575-758-6255.

Dated: September 2, 2009.
Kendall Clark,
Forest Supervisor, Carson National Forest.

[FR Doc. E9-21738 Filed 9-9-09; 8:45 am]

BILLING CODE 3410-11-P